DEPARTMENT OF ENERGY

Federal Energy Regulatory Commission

Combined Notice of Filings #1

Take notice that the Commission received the following exempt wholesale generator filings:

Docket Numbers: EG24-296-000.

Applicants: Fort Duncan BESS LLC.

Description: Fort Duncan BESS LLC submits Notice of Self-Certification of Exempt Wholesale Generator Status.

Filed Date: 9/25/24.

Accession Number: 20240925-5057.

Comment Date: 5 p.m. ET 10/16/24.

Docket Numbers: EG24-297-000.

Applicants: Ashwood Solar I, LLC.

Description: Ashwood Solar I, LLC submits Self-Certification of Exempt Wholesale Generator Status.

Filed Date: 9/25/24.

Accession Number: 20240925-5060.

Comment Date: 5 p.m. ET 10/16/24.

Docket Numbers: EG24-298-000.

Applicants: Richland Township Solar, LLC.

Description: Richland Township Solar, LLC submits Notice of Self-Certification of Exempt Wholesale Generator Status.

Filed Date: 9/25/24.

Accession Number: 20240925-5094.

Comment Date: 5 p.m. ET 10/16/24.

Docket Numbers: EG24-299-000.

Applicants: BCD 2024 Fund 4 Lessee, LLC.

Description: BCD 2024 Fund 4 Lessee, LLC submits Notice of Self-Certification of Exempt Wholesale Generator Status.

Filed Date: 9/25/24.

Accession Number: 20240925-5101.

Comment Date: 5 p.m. ET 10/16/24.

Docket Numbers: EG24-300-000.

Applicants: West River Solar, LLC.

Description: West River Solar, LLC submits Notice of Self-Certification of Exempt Wholesale Generator Status.

Filed Date: 9/25/24.

Accession Number: 20240925-5105.

Comment Date: 5 p.m. ET 10/16/24.

Take notice that the Commission received the following electric rate filings:

Docket Numbers: ER24-2654-000; ER24-2655-000.

Applicants: Morgan Stanley Energy Structuring, L.L.C., Morgan Stanley Capital Group Inc.

Description: Supplement to 07/31/2024 Morgan Stanley Capital Group Inc. et al. tariff filing.

Filed Date: 9/24/24.

Accession Number: 20240924-5172.

Comment Date: 5 p.m. ET 10/15/24.

Docket Numbers: ER24-3103-000.

Applicants: PJM Interconnection, L.L.C.

Description: § 205(d) Rate Filing: Amendment to ISA, Service Agreement No. 7046; Queue No. AE1-149 to be effective 11/25/2024.

Filed Date: 9/25/24.

Accession Number: 20240925-5029.

Comment Date: 5 p.m. ET 10/16/24.

Docket Numbers: ER24-3104-000.

Applicants: Alabama Power Company, Georgia Power Company, Mississippi Power Company.

Description: § 205(d) Rate Filing: Alabama Power Company submits tariff filing per 35.13(a)(2)(iii: EG Surya I (Surya Solar 1) LGIA Filing to be effective 9/13/2024.

Filed Date: 9/25/24.

Accession Number: 20240925-5071.

Comment Date: 5 p.m. ET 10/16/24.

Docket Numbers: ER24-3105-000.

Applicants: Alabama Power Company, Georgia Power Company, Mississippi Power Company

Description: § 205(d) Rate Filing: Alabama Power Company submits tariff filing per 35.13(a)(2)(iii: EG Surya II (Surya Solar 2) LGIA Filing to be effective 9/13/2024.

Filed Date: 9/25/24.

Accession Number: 20240925-5072.

Comment Date: 5 p.m. ET 10/16/24.

Docket Numbers: ER24-3106-000.

Applicants: Midcontinent Independent System Operator, Inc., Ameren Illinois Company.

Description: § 205(d) Rate Filing: Midcontinent Independent System Operator, Inc. submits tariff filing per 35.13(a)(2)(iii: 2024-09-25_SA 4356 Ameren IL-Spring Creek Solar E&P (J1677) to be effective 9/26/2024.

Filed Date: 9/25/24.

Accession Number: 20240925-5081.

Comment Date: 5 p.m. ET 10/16/24.

Docket Numbers: ER24-3107-000.

Applicants: Evergy Kansas Central, Inc.

Description: § 205(d) Rate Filing: EKC GFR and McPherson Depreciation Rate Filing to be effective 12/1/2024.

Filed Date: 9/25/24.

Accession Number: 20240925-5093.

Comment Date: 5 p.m. ET 10/16/24.

Docket Numbers: ER24-3108-000.

Applicants: Evergy Kansas Central, Inc.

Description: § 205(d) Rate Filing: EKC TFR Depreciation Rate Filing to be effective 12/1/2024.

Filed Date: 9/25/24.

Accession Number: 20240925-5108.

Comment Date: 5 p.m. ET 10/16/24.

Docket Numbers: ER24-3109-000.

Applicants: UNS Electric, Inc.

Description: § 205(d) Rate Filing: Amendment to Rate Schedule No. 10 to be effective 9/25/2024.

Filed Date: 9/25/24.

Accession Number: 20240925-5117.

Comment Date: 5 p.m. ET 10/16/24.

Docket Numbers: ER24-3110-000.

Applicants: National Grid Generation LLC.

Description: § 205(d) Rate Filing: Annual Reset of Pension and OPEB Expenses to be effective 1/1/2024.

Filed Date: 9/25/24.

Accession Number: 20240925-5121.

Comment Date: 5 p.m. ET 10/16/24.

Docket Numbers: ER24-3111-000.

Applicants: Duke Energy Progress, LLC.

Description: § 205(d) Rate Filing: DEP-NCEMC RS No. 451 to be effective 1/1/2025.

Filed Date: 9/25/24.

Accession Number: 20240925-5122.

Comment Date: 5 p.m. ET 10/16/24.

Take notice that the Commission received the following public utility holding company filings:

Docket Numbers: PH24-15-000.

Applicants: Atlantica Sustainable Infrastructure plc.

Description: Atlantica Sustainable Infrastructure plc submits FERC 65-B Notice of Change in Fact to Waiver Notification of.

Filed Date: 9/24/24.

Accession Number: 20240924-5170.

Comment Date: 5 p.m. ET 10/15/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: September 25, 2024.
Debbie-Anne A. Reese,
Acting Secretary.

[FR Doc. 2024-22483 Filed 9-30-24; 8:45 am]

BILLING CODE 6717-01-P